DEPARTMENT OF TRANSPORTATION

Federal Aviation Administration

Notice of Intent To Rule on Application To Impose a Passenger Facility Charge (PFC) at Hilton Head Island Airport, Hilton Head Island, SC

AGENCY: Federal Aviation Administration (FAA), DOT.

ACTION: Notice of intent to rule on application.

SUMMARY: The FAA proposes to rule and invites public comment on the application to impose a PFC at Hilton Head Island Airport under the provisions of the Aviation Safety and Capacity Expansion Act of 1990 (Title IX of the Omnibus Budget Reconciliation Act of 1990) (Public Law 101-508) and Part 158 of the Federal Aviation Regulations (14 CFR Part 158).

DATES: Comments must be received on or before September 20, 2000.

ADDRESSES: Comments on this application may be mailed or delivered in triplicate to the FAA at the following address: Atlanta Airports District Office, Attn: Tracie L. Dominy, 1701 Columbia Avenue, Suite 2-260, College Park, GA 30337.

In addition, one copy of any comments submitted to the FAA must be mailed or delivered to Mr. Randolph L. Wood, Deputy Administrator of Beaufort County Council at the following address: Post Office Drawer 1228, Beaufort, SC 29901.

Air carriers and foreign air carriers may submit copies of written comments previously provided to the Beaufort County Council under section 158.23 of Part 158.

FOR FURTHER INFORMATION CONTACT: Tracie L. Dominy, Program Manager, Atlanta Airports District Office, 1701 Columbia Avenue, Suite 2-260, College Park, Georgia, (404) 305-7148. The application may be reviewed in person at this same location.

SUPPLEMENTARY INFORMATION: The FAA proposes to rule and invites public comment on the application to impose a PFC at Hilton Head Island Airport under the provisions of the Aviation Safety and Capacity Expansion Act of 1990 (Title IX of the Omnibus Budget Reconciliation Act of 1990) (Public Law 101-508) and Part 158 of the Federal Aviation Regulations (14 CFR Part 158).

On August 14, 2000, the FAA determined that the application to impose a PFC submitted by Beaufort County Council was substantially complete within the requirements of section 158.25 of Part 158. The FAA will approve or disapprove the application, in whole or in part, no later than November 16, 2000.

The following is a brief overview of the application.

PFC Application No.: 00-02-I-00-HXD.

Level of the proposed PFC: $3.00.

Proposed charge effective date: November 1, 2000.

Proposed charge expiration date: January 1, 2009.

Total estimated PFC revenue: $2,076,657.

Brief description of proposed project(s):

1. Land Acquisition (10 acres).

2. General Aviation/Apron Development.

Class or classes of air carriers which the public agency has requested not be required to collect PFCs: Part 135/non-scheduled carriers.

Any person may inspect the application in person at the FAA office listed below under FOR FURTHER INFORMATION CONTACT.

In addition, any person may, upon request, inspect the application, notice and other documents germane to the application in person at the Beaufort County Council.

Issued in College Park, Georgia, on August 14, 2000.
Scott L. Seritt,
Manager, Atlanta Airports District Office, Southern Region.

[FR Doc. 00-21130 Filed 8-18-00; 8:45 am]

BILLING CODE 4910-13-M